DEPARTMENT OF ENERGY

Federal Energy Regulatory Commission

[Docket No. RP04-132-000]

Columbia Gas Transmission Corporation; Notice of Penalty Revenue Crediting Report

January 7, 2004.

Take notice that on December 31, 2003, Columbia Gas Transmission Corporation (Columbia) states that pursuant to section 19.6 of the General Terms and Conditions (GTC) of its FERC Gas Tariff, Second Revised Volume No. 1, Columbia must file a report with the Commission within 60 days of the close of each Columbia contract year (November 1 to October 31) showing any Penalty Revenues it has received during the contract year, any Columbia costs netted against the Penalty Revenues, and the resulting Penalty Revenue credits due to Non-Penalized Shippers for each month of the contract year. Columbia states that it is providing the attached Penalty Revenue Crediting Report for the 2002-2003 contract year.

Columbia states that copies of its filing have been mailed to all firm customers, interruptible customers and affected State commissions.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Comment Date: January 14, 2004.

Magalie R. Salas,
Secretary.

[FR Doc. E4-60 Filed 01-14-04; 8:45 am]

BILLING CODE 6717-01-P